DEPARTMENT OF TRANSPORTATION

Surface Transportation Board

[STB Finance Docket No. 33870]

Eastern Alabama Railroad, Inc.—Acquisition Exemption—CSX Transportation, Inc.

Eastern Alabama Railroad, Inc. (EARY), a Class III rail carrier, has filed a verified notice of exemption under 49 CFR 1150.41 to acquire and operate a rail line owned by CSX Transportation, Inc.¹ The rail line extends from milepost LAM 453.58, at Gannt's Junction, to milepost LAM 479.94, at Talladega, a distance of 26.36 miles in Talladega County, AL.

¹ EARY represents that it has operated the rail line, as the assignee of a lease with option to purchase, since 1992 following its acquisition of the Natchez Trace Railroad's properties. See Eastern Alabama Railway, Inc.—Acquisition and Operation Exemption—Natchez Trace Railroad, Finance Docket No. 32044 (ICC served Apr. 16, 1992).

The transaction is expected to be consummated on or after May 17, 2000.

If the notice contains false or misleading information, the exemption is void ab initio. Petitions to revoke the exemption under 49 U.S.C. 10502(d) may be filed at any time. The filing of a petition to revoke does not automatically stay the transaction.

An original and 10 copies of all pleadings, referring to STB Finance Docket No. 33870, must be filed with the Surface Transportation Board, Office of the Secretary, Case Control Unit, 1925 K Street, NW, Washington, DC 20423-0001. In addition, a copy of each pleading must be served on Fritz R. Kahn, Esq., 1920 N Street, NW, Eighth Floor, Washington, DC 20036-1601.

Board decisions and notices are available on our website at “WWW.STB.DOT.GOV.”

Decided: May 12, 2000.
By the Board, David M. Konschnik, Director, Office of Proceedings.
Vernon A. Williams,
Secretary.

[FR Doc. 00-12566 Filed 5-18-00; 8:45 am]

BILLING CODE 4915-00-P